DEPARTMENT OF DEFENSE

Office of the Secretary

[Docket ID: DoD-2023-HA-0111]

Submission for OMB Review; Comment Request

AGENCY: Office of the Assistant Secretary of Defense for Health Affairs (OASD(HA)), Department of Defense (DoD).

ACTION: 30-Day information collection notice.

SUMMARY: The DoD has submitted to the Office of Management and Budget (OMB) for clearance the following proposal for collection of information under the provisions of the Paperwork Reduction Act.

DATES: Consideration will be given to all comments received by March 14, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lane Purvis, (571) 372-0460, whs.mc-alex.esd.mbx.dd-dod-information-collections@mail.mil.

SUPPLEMENTARY INFORMATION:

Title; Associated Form; and OMB Number: The Health Care Survey of DoD Beneficiaries; OMB Control Number: 0720-HCSD.

Type of Request: New.

Number of Respondents: 24,200.

Responses per Respondent: 1.

Annual Responses: 24,200.

Average Burden per Response: 15 minutes.

Annual Burden Hours: 6,050.

Needs and Uses: Legal authority for this information collection is found in the 1993 National Defense Authorization Act (Pub. L. 102-484). The Health Care Survey of DoD Beneficiaries (HCSDB) is the only population-based Consumer Assessment of Healthcare Providers and Systems Health Plan Survey (v5.0) administered to a statistically representative, world-wide sample of all eligible DoD beneficiaries by the Defense Health Agency (DHA). The instrument includes an additional module that is the only population-based measurement of Healthy People 2030 goals and health metrics reflecting the priorities of senior health leaders. The HCSDB is a population-based survey, not a healthcare encounter-based survey. As such, the HCSDB is the only survey able to measure access to care and other metrics for beneficiaries who may not be using the TRICARE health system due to barriers to care they encounter. This information collection, which began in 2008, continues to be of critical importance to DHA and Congress in assessing Military Health System and Managed Care Support Contractor performance by allowing for trending by various beneficiary categories over time.

Affected Public: Individuals or households.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Lane Purvis.

Requests for copies of the information collection proposal should be sent to Mr. Purvis at whs.mc-alex.esd.mbx.dd-dod-information-collections@mail.mil.

Dated: February 7, 2024.
Aaron T. Siegel,
Alternate OSD Federal Register Liaison Officer, Department of Defense.

[FR Doc. 2024-02945 Filed 2-12-24; 8:45 am]

BILLING CODE 6001-FR-P